DEPARTMENT OF HEALTH AND HUMAN SERVICES

Food and Drug Administration

[Docket No. FDA-2012-N-0386]

Agency Information Collection Activities; Proposed Collection; Comment Request; Registration and Product Listing for Owners and Operators of Domestic Tobacco Product Establishments and Listing of Ingredients in Tobacco Products; Correction

AGENCY: Food and Drug Administration, HHS.

ACTION: Notice; correction.

SUMMARY: The Food and Drug Administration (FDA) is correcting a notice that appeared in the Federal Register of May 3, 2012 (77 FR 26281). The document announced an opportunity for public comment on the proposed extension of an existing collection of information by the Agency pertaining to registration and product listing for owners and operators of domestic tobacco product establishments and to listing of ingredients in tobacco products under the Family Smoking Prevention and Tobacco Control Act. The document published with incorrect FDA form numbers. This document corrects those errors.

FOR FURTHER INFORMATION CONTACT: Daniel Gittleson, Office of Information Management, Food and Drug Administration, 1350 Piccard Dr., PI50-400B, Rockville, MD 20850, 301-796-5156, Daniel.Gittleson@fda.hhs.gov.

SUPPLEMENTARY INFORMATION: In FR Doc. 2012-10645 appearing on page 26281 in the Federal Register of Thursday, May 3, 2012, the following corrections are made:

1. On page 26282, in the third column, in the first full paragraph, the fifth sentence “FDA also developed paper forms (Form FDA 3742—Registration and Listing for Owners and Operators of Domestic Tobacco Product Establishments and Form FDA 3743—Listing of Ingredients in Tobacco Products) as an alternative submission tool.” is corrected to read “FDA also developed paper forms (Form FDA 3741—Registration and Listing for Owners and Operators of Domestic Tobacco Product Establishments and Form FDA 3742—Listing of Ingredients in Tobacco Products) as an alternative submission tool.”

2. On page 26283, in the table, “Form FDA 3742” is corrected to read “Form FDA 3741” and “Form FDA 3743” is corrected to read “Form FDA 3742”.

Dated: September 12, 2012.
Leslie Kux,
Assistant Commissioner for Policy.

[FR Doc. 2012-22919 Filed 9-17-12; 8:45 am]

BILLING CODE 4160-01-P